DEPARTMENT OF VETERANS AFFAIRS

[OMB Control No. 2900-NEW]

Proposed Information Collection (Post-Engagement) Activity: Comment Request

AGENCY: Office of Small and Disadvantaged Business Utilization (OSDBU), the Department of Veterans Affairs (VA).

ACTION: Notice.

SUMMARY: VA OSDBU is announcing an opportunity for public comment on the proposed collection of certain information by the agency. Under the Paperwork Reduction Act (PRA) of 1995, Federal agencies are required to publish notice in the Federal Register concerning each proposed new collection of information and allow 60 days for public comment in response to the notice. This notice solicits comments on information needed to (1) determine the return on investment (ROI) provided by the National Veterans Small Business Engagement (NVSBE) to the Department of Veterans Affairs (VA), other Federal agencies, and small and large business attendees, (2) have a mechanism that allows to share ROI and satisfaction levels with potential attendees in order to make informed decisions regarding their participation in future NVSBEs.

DATES: Written comments and recommendations on the proposed collection of information should be received on or before July 7, 2015.

ADDRESSES: Submit written comments on the collection of information through Federal Docket Management System (FDMS) at www.Regulations.gov or to Milagros Ortiz, OSDBU, (OOSB) or email to: milagros.ortiz@va.gov. Please refer to “OMB Control No. 2900—NEW (Post-Engagement)” in any correspondence. During the comment period, comments may be viewed online through FDMS.

FOR FURTHER INFORMATION CONTACT: Milagros Ortiz at (202) 461-4279 or Fax (202) 461-4301.

SUPPLEMENTARY INFORMATION: Under the PRA of 1995 (Pub. L. 104-13; 44 U.S.C. 3501-3521), Federal agencies must obtain approval from the Office of Management and Budget (OMB) for each collection of information they conduct or sponsor. This request for comment is being made pursuant to section 3506(c)(2)(A) of the PRA.

With respect to the following collection of information, OMB invites comments on: (1) Whether the proposed collection of information is necessary for the proper performance of OMB's functions, including whether the information will have practical utility; (2) the accuracy of OMB's estimate of the burden of the proposed collection of information; (3) ways to enhance the quality, utility, and clarity of the information to be collected; and (4) ways to minimize the burden of the collection of information on respondents, including through the use of automated collection techniques or the use of other forms of information technology.

Title: Post Engagement.

OMB Control Number: 2900—NEW.

Type of Review: New collection.

Abstract: The Office of Small and Disadvantaged Business Utilization (OSDBU) needs to measure the ROI the NVSBE provides to VA and its attendees. VA intends to gather data that will allow OSDBU to measure the efficiency of this event, to learn how to better serve its stakeholders needs and to share this information with potential attendees.

Affected Public: NVSBE attendees, to include federal employees, small business owners, commercial corporations, and prime contractors.

Estimated Annual Burden: 117 hours.

Estimated Average Burden per Respondent: 7 minutes.

Frequency of Response: Every year after the NVSBE.

Estimated Number of Respondents: 1,000 per year.

By direction of the Secretary.
Crystal Rennie,
Department Clearance Officer, Department of Veterans Affairs.

[FR Doc. 2015-11126 Filed 5-7-15; 8:45 am]

BILLING CODE 8320-01-P